DEPARTMENT OF THE INTERIOR

National Park Service

[NPS-WASO-NRSS-xxxx-xxxx; 2330-RYY]

60-Day Notice of Intention To Request Clearance of Collection of Information; Opportunity for Public Comment

AGENCY: National Park Service, Interior.

ACTION: Notice; request for comments.

SUMMARY: Under provisions of the Paperwork Reduction Act of 1995 and 5 CFR Part 1320, Reporting and Record Keeping Requirements, the National Park Service (NPS) invites public comments on an extension of a currently approved collection of information (OMB #1024-0224).

DATES: Public comments will be accepted on or before April 11, 2011.

ADDRESSES: Send Comments to: Dr. Bruce Peacock, Chief, NPS Social Science Division, 1201 Oakridge Drive, Fort Collins, CO 80525; Phone: 970-267-2106; Fax: 970-225-3597; E-mail: Bruce_Peacock@nps.gov. Also, you may send comments to Robert Gordon, NPS Information Collection Clearance Officer, 1201 “Eye” Street, NW., Washington, DC 20005, or by e-mail to Robert_Gordon@nps.gov. All responses to this notice will be summarized and included in the request for Office of Management and Budget (OMB) approval. All comments will become a matter of public record.

To request a Draft of Proposed Collection of Information, contact: Dr. Bruce Peacock, Chief, NPS Social Science Division, 1201 Oakridge Drive, Fort Collins, CO 80525; Phone: 970-267-2106; E-mail: Bruce_Peacock@nps.gov.

FOR FURTHER INFORMATION CONTACT: Dr. Bruce Peacock, Chief, NPS Social Science Division, 1201 Oakridge Drive, Fort Collins, CO 80525; Phone: 970-267-2106; E-mail: Bruce_Peacock@nps.gov.

SUPPLEMENTARY INFORMATION: Title: Generic Information Collection Review of NPS-Sponsored Surveys.

Bureau form number: None.

OMB Number: 1024-0224.

Expiration date: June 30, 2011.

Type of request: Extension for a currently approved collection.

Description of need: The NPS needs information concerning park visitors and visitor services, potential park visitors, and residents of communities near parks to provide NPS managers with usable knowledge for improving the quality and utility of agency programs, services, and planning efforts.

Since many of the NPS surveys are similar in terms of the populations being surveyed, the types of questions being asked, and research methodologies, the NPS proposed and received clearance from OMB for a generic Information Collection Review (ICR) of NPS-sponsored surveys.

The benefits of this generic ICR program have been significant to the NPS, Department of the Interior, OMB, NPS cooperators, and the public. Since 1999, significant time and cost savings have been incurred and 514 surveys have been conducted in units throughout the National Park System. Approval was typically granted in 60 days or less from the date the Principal Investigator (PI) first submitted the survey package for review. This is a significant reduction over the approximately 6-8 months involved in the regular OMB review process. From FY 1999 through FY 2010, the generic ICR process has produced an estimated cost savings to the Federal government and PIs of $1,017,495.

Automated data collection: None.

Description of respondents: General Public—visitors and potential visitors to parks, and residents of communities near parks.

Estimated average number of respondents: The NPS generic ICR program does not identify the number of respondents because that number will differ in each individual survey, depending on the purpose and design of each information collection.

Estimated average number of responses: For most surveys, each respondent will be asked to respond only one time. The NPS generic ICR program does not identify the average number of responses because that number will differ in each individual survey. In most cases the number of responses will be the same as the number of respondents.

Estimated average burden hours per response: The NPS generic ICR program does not identify the average burden hours per response because that number will differ in each individual survey, depending on the purpose and design of each information collection.

Frequency of response: Most individual surveys will request only one response per respondent.

Estimated annual reporting burden: The NPS generic ICR program identifies the requested total number of burden hours annually for all of the surveys to be conducted under its auspices to be 15,000 burden hours per year.

Comments are invited on: (1) The practical utility of the information being collected; (2) the accuracy of the burden hour estimate; (3) ways to enhance the quality, utility, and clarity of the information being collected; and (4) ways to minimize the burden to respondents, including use of automated information collection methods or other forms of information technology. Before including your address, phone number, e-mail address, or other personally identifiable information in your comment, you should be aware that your entire comment—including your personally identifiable information—may be made publicly available at any time. While you can ask us in your comment to withhold your personally identifiable information from public review, we cannot guarantee that we will be able to do so.

Dated: February 3, 2011.
Robert Gordon,
Information Collection Clearance Officer, National Park Service.

[FR Doc. 2011-2738 Filed 2-7-11; 8:45 am]

BILLING CODE 4312-52-P